DEPARTMENT OF ENERGY

Federal Energy Regulatory Commission

Combined Notice of Filings

Take notice that the Commission has received the following Natural Gas Pipeline Rate and Refund Report filings:

Docket Number: PR20-5-003.

Applicants: Midcoast Pipelines (North Texas) L.P.

Description: Tariff filing per 284.123(b), (e)+(g): Supplement to Amended Statement of Operating Conditions to be effective 11/1/2019.

Filed Date: 2/11/2020.

Accession Number: 202002115023.

Comments Due: 5 p.m. ET 2/24/2020.

284.123(g) Protests Due: 5 p.m. ET 2/24/2020.

Docket Number: PR20-34-000.

Applicants: Interstate Power and Light Company.

Description: Tariff filing per 284.123(b), (e)/: IPL Revised Statement of Operating Conditions to be effective 2/7/2020.

Filed Date: 2/7/2020.

Accession Number: 202002075073.

Comments/Protests Due: 5 p.m. ET 2/28/2020.

Docket Number: PR20-35-000.

Applicants: Wisconsin Power and Light Company.

Description: Tariff filing per 284.123(b), (e)+(g): WPL Statement of Operating Conditions to be effective 2/10/2020.

Filed Date: 2/10/2020.

Accession Number: 202002105067.

Comments Due: 5 p.m. ET 3/2/2020.

284.123(g) Protests Due: 5 p.m. ET 4/10/2020.

Docket Numbers: RP20-515-000.

Applicants: Southern Natural Gas Company, L.L.C.

Description: § 4(d) Rate Filing: Fuel Retention Rates—Spring 2020 to be effective 4/1/2020.

Filed Date: 2/12/20.

Accession Number: 20200212-5017.

Comments Due: 5 p.m. ET 2/24/20.

Docket Numbers: RP20-516-000.

Applicants: Gulf South Pipeline Company, LLC.

Description: § 4(d) Rate Filing: Filing to Incorporate Approved Gulf Crossing Zone Fuel Rates to be effective 4/1/2020.

Filed Date: 2/12/20.

Accession Number: 20200212-5050.

Comments Due: 5 p.m. ET 2/24/20.

Docket Numbers: RP20-517-000.

Applicants: LA Storage, LLC.

Description: § 4(d) Rate Filing: Filing of Negotiated Rate, Conforming IW Agreement (Spotlight) to be effective 2/12/2020.

Filed Date: 2/12/20.

Accession Number: 20200212-5101.

Comments Due: 5 p.m. ET 2/24/20.

Docket Numbers: RP20-518-000.

Applicants: W&T Offshore, Inc., Marubeni Oil & Gas (USA), LLC.

Description: Joint Petition for Limited Waivers, et al. of W&T Offshore, Inc., et al. under RP20-518.

Filed Date: 2/12/20.

Accession Number: 20200212-5162.

Comments Due: 5 p.m. ET 2/19/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 13, 2020.
Nathaniel J. Davis, Sr.,
Deputy Secretary.

[FR Doc. 2020-03387 Filed 2-19-20; 8:45 am]

BILLING CODE 6717-01-P